DEPARTMENT OF ENERGY

Federal Energy Regulatory Commission

[Docket No. RP02-361-001]

Gulfstream Natural Gas System, L.L.C.; Notice of Compliance Filing

September 10, 2002.

Take notice that on September 3, 2002, Gulfstream NaturalGas System, L.L.C. (Gulfstream) tendered for filing as part of its FERC Gas Tariff, Original Volume No. 1, the following revised tariff sheet, effective June 1, 2002:

Second Revised Sheet No. 8.

Gulfstream states that the purpose of this filing is to remove a provision from this tariff sheet rejected by the Commission in its order of July 3, 2002.

Gulfstream states that copies of its filing have been mailed to all affected customers and interested state commissions.

Any person desiring to protest said filing should file a protest with the Federal Energy Regulatory Commission, 888 First Street, NE, Washington, DC 20426, in accordance with section 385.211 of the Commission's rules and regulations. All such protests must be filed in accordance with Section 154.210 of the Commission's Regulations. Protests will be considered by the Commission in determining the appropriate action to be taken, but will not serve to make protestants parties to the proceedings. This filing is available for review at the Commission in the Public Reference Room or may be viewed on the Commission's website at http://www.ferc.gov using the “FERRIS” link. Enter the docket number excluding the last three digits in the docket number field to access the document. For Assistance, call (202)502-8222 or for TTY, (202) 208-1659. The Commission strongly encourages electronic filings. See, 18 CFR 385.2001(a)(1)(iii) and the instructions on the Commission's web site under the “e-Filing” link.

Linwood A. Watson, Jr.,
Deputy Secretary.

[FR Doc. 02-23447 Filed 9-13-02; 8:45 am]

BILLING CODE 6717-01-P